DEPARTMENT OF JUSTICE

Antitrust Division

Notice Pursuant to the National Cooperative Research and Production Act of 1993—Globus Consortium, Inc.

Notice is hereby give that, on April 1, 2005, pursuant to section 6(a) of the National Cooperative Research and Production Act of 1993, 15 U.S.C. 4301 et seq. (“the Act”), Globus Consortium, Inc. has filed written notifications simultaneously with the Attorney General and the Federal Trade Commission disclosing changes in its membership. The notification were filed for the purpose of extending the Act's provisions limiting the recovery of antitrust plaintiffs to actual damages under specified circumstances. Specifically, International Business Machines Corporation, Armonk, NY; Hewlett-Packard Company, Palo Alto, CA; Intel Corporation, Santa Clara, CA; and Univa Corporation, Elmhurst, IL have been added as parties to this venture.

No other changes have been made in either the membership or planned activity of the group research project. Membership in this group research project remains open, and Globus Consortium, Inc. intends to file education written notification disclosing all changes in membership.

On June 10, 2004, Globus Consortium, Inc. filed its original notification pursuant to section 6(a) of the Act. The Department of Justice published a notice in the Federal Register pursuant to section 6(b) of the Act on July 8, 2004 (69 FR 41281).

Dorothy B. Fountain,
Deputy Director of Operations, Antitrust Division.

[FR Doc. 05-8253 Filed 4-25-05; 8:45 am]

BILLING CODE 4410-11-M